ENVIRONMENTAL PROTECTION AGENCY

[FRL-8977-7; Docket ID No. EPA-HQ-ORD-2009-0816]

A Framework for Categorizing the Relative Vulnerability of Threatened and Endangered Species to Climate Change

AGENCY: Environmental Protection Agency (EPA).

ACTION: Notice of public comment period.

SUMMARY: EPA is announcing a 30-day public comment period for the draft document titled, “A Framework for Categorizing the Relative Vulnerability of Threatened and Endangered Species to Climate Change” (EPA/600/R-09/011). The document was prepared by the National Center for Environmental Assessment within EPA's Office of Research and Development. This draft document describes an evaluative framework that may be used to categorize the relative vulnerability of species to climate change. To illustrate the use of this framework, it was applied to five U.S. threatened and endangered species: The golden-cheeked warbler, the salt marsh harvest mouse, the Mount Graham red squirrel, the Lahontan cutthroat trout, and the desert tortoise. A sixth species, the bald eagle which is no longer listed as threatened or endangered, except for the southwest population, was also evaluated.

An external peer review of this report has been completed. The public comment period and the external peer review are separate processes. The public comment period provides an opportunity for all interested parties to comment on the document. When finalizing the draft document, EPA will consider any public comments received in accordance with this notice.

EPA is releasing this draft document solely for the purpose of pre-dissemination review and comment under applicable information quality guidelines. This document has not been formally disseminated by EPA and does not represent and should not be construed to represent any Agency policy or determination. The first draft of this report was reviewed in 2002 by the U.S. Fish and Wildlife Service within the Department of the Interior. This final draft is being released to the public as well as to other federal agencies who may wish to comment.

DATES: The 30-day public comment period begins November 25, 2009, and ends December 28, 2009. Technical comments should be in writing and must be received by EPA by December 28, 2009.

ADDRESSES: The draft “A Framework for Categorizing the Relative Vulnerability of Threatened and Endangered Species to Climate Change” is available primarily via the Internet on the National Center for Environmental Assessment's home page under the Recent Additions and the Data and Publications menus at http://www.epa.gov/ncea. A limited number of paper copies are available from the Information Management Team, NCEA; telephone: 703-347-8561; facsimile: 703-347-8691. If you are requesting a paper copy, please provide your name, your mailing address, and the document title, “A Framework for Categorizing the Relative Vulnerability of Threatened and Endangered Species to Climate Change.”

Comments may be submitted electronically via http://www.regulations.gov, by mail, by facsimile, or by hand delivery/courier. Please follow the detailed instructions provided in the SUPPLEMENTARY INFORMATION section of this notice.

FOR FURTHER INFORMATION CONTACT: For information on the public comment period, contact the Office of Environmental Information Docket; telephone: 202-566-1752; facsimile: 202-566-1753; or e-mail: ORD.Docket@epa.gov.

For technical information, contact Susan Julius, NCEA; telephone: 703-347-8619; facsimile: 703-347-8694; or e-mail: julius.susan@epa.gov.

SUPPLEMENTARY INFORMATION:

I. Information About the Project/Document

The document, “A Framework for Categorizing the Relative Vulnerability of Threatened and Endangered Species to Climate Change” describes an evaluative framework that may be used to categorize the relative vulnerability of species to climate change. It is intended that the results of applying the framework be regarded as indications of the comparative vulnerabilities of species, not estimates of a species' absolute vulnerability to climate change. Four modules compose this framework: Module 1 categorizes baseline vulnerability to extinction or major population reduction by scoring those elements of the species' life history, demographics, and conservation status that influence the likelihood of its survival or extinction (excluding climatic changes); Module 2 scores the likely vulnerability of a species to future climate change, including the species' potential physiological, behavioral, demographic, and ecological response to climate change; Module 3 combines the results of Modules 1 and 2 into a matrix to produce an overall score of the species' vulnerability to climate change, which maps to an adjectival category, such as “critically vulnerable,” “highly vulnerable,” “less vulnerable,” and “least vulnerable;” Module 4 is a qualitative determination of uncertainty of overall vulnerability (high, medium, and low) based on evaluations of uncertainty done in each of the first 3 modules.

To illustrate the use of this framework, it was applied to six U.S. species that were listed as threatened or endangered at the time the framework was developed. Based on the framework, four of those species were categorized as “critically vulnerable” to climate change: The golden-cheeked warbler (Dendroica chrysoparia), the salt marsh harvest mouse (Reithrodontomys raviventris), the Mount Graham red squirrel (Tamiasciurus hudsonicus grahamensis), and the Lahontan cutthroat trout (Oncorhyncus clarki henshawi). The desert tortoise (Gopherus agassizii) was characterized as “highly vulnerable” and the bald eagle (Haliaeetus leucocephalus) was categorized as “less vulnerable.” Certainty scores in Module 4 ranged between medium and high and reflect the amount and quality of information available.

This framework was developed by EPA's Global Change Research Program and is offered as one of a number of potential approaches for prioritizing those species most vulnerable to climate change. It is not intended to serve as a tool for determining whether a species is endangered or threatened under the Section 4 listing process of the Endangered Species Act.

EPA's Global Change Research is an assessment-oriented program committed to developing frameworks and tools to assist decision-makers in evaluating the impacts of climate change to air quality, water quality and ecosystems.

II. How To Submit Technical Comments to the Docket at http://www.regulations.gov.

Submit your comments, identified by Docket ID No. EPA-HQ-ORD 2009-0816, by one of the following methods:

• http://www.regulations.gov: Follow the on-line instructions for submitting comments.

• E-mail: ORD.Docket@epa.gov.

• Fax: 202-566-1753.

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, Room 3334 EPA West Building, 1301 Constitution Ave., NW., Washington, DC. The EPA Docket Center's Public Reading Room is open from 8:30 a.m. to 4:30 p.m., Monday through Friday, excluding legal holidays. The telephone number for the Public Reading Room is 202-566-1744. Such deliveries are only accepted during the docket's normal hours of operation, and special arrangements should be made for deliveries of boxed information.

If you provide comments by mail or hand delivery, please submit three copies of the comments. For attachments, provide an index, number pages consecutively with the comments, and submit an unbound original and three copies.

Instructions: Direct your comments to Docket ID No. EPA-HQ-ORD-2009-0816. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: Documents in the docket are listed in the http://www.regulations.gov index. Although listed in the index, some information is not publicly available, e.g., CBI or other information whose disclosure is restricted by statute. Certain other materials, such as copyrighted material, are publicly available only in hard copy. Publicly available docket materials are available either electronically in http://www.regulations.gov or in hard copy at the OEI Docket in the EPA Headquarters Docket Center.

Dated: October 21, 2009.
Rebecca Clark,
Director, National Center for Environmental Assessment.

[FR Doc. E9-28294 Filed 11-24-09; 8:45 am]

BILLING CODE 6560-50-P